DEPARTMENT OF ENERGY

Federal Energy Regulatory Commission

[Docket No. RP02-114-005]

Tennessee Gas Pipeline Company; Notice of Extension of Time

May 12, 2004.

On May 11, 2004, Tennessee Gas Pipeline Company (Tennessee) filed a motion for an extension of time to file supplemental information in response to a letter order issued May 3, 2004, in the above-docketed proceeding, by the Director, Division of Tariffs and Market Development-East. In support of this request, the motion states that Tennessee is working diligently to respond to the questions raised in the letter order and requires additional time to generate customer input and submit the required information.

Upon consideration, notice is hereby given that an extension of time for filing supplemental information in response to the May 3, 2004, Letter Order is granted to and including May 28, 2004, as requested by Tennessee.

Magalie R. Salas,
Secretary.

[FR Doc. E4-1194 Filed 5-20-04; 8:45 am]

BILLING CODE 6717-01-P